MORRIS K. UDALL AND STEWART L. UDALL FOUNDATION

Sunshine Act Meetings

TIME AND DATE: 9:00 a.m. to 3:30 p.m., Friday, April 22, 2016.

PLACE: Meeting Room C205, University of Arizona Libraries, Special Collections, 1510 E. University Blvd., Tucson, AZ 85721.

STATUS: This meeting of the Board of Trustees will be open to the public.

MATTERS TO BE CONSIDERED: (1) Welcome & Tour of Special Collections for Trustees and Staff; (2) Call to Order & Chair's Remarks; (3) Executive Director's Remarks; (4) Consent Agenda Approval (Program Reports submitted for the Education Programs, U.S. Institute for Environmental Conflict Resolution, and Udall Center for Studies in Public Policy-Native Nations Institute-Udall Archives); (5) Financial and Internal Controls Update; (6) Udall Center for Studies in Public Policy and Native Nations Institute for Leadership, Management, and Policy (NNI) Research Staff Presentations; and (7) NNI Program Overview.

CONTACT PERSON FOR MORE INFORMATION: Philip J. Lemanski, Executive Director, 130 South Scott Avenue, Tucson, AZ 85701, (520) 901-8500.

Dated: April 4, 2016.
Elizabeth E. Monroe,
Executive Assistant, Morris K. Udall and Stewart L. Udall Foundation, and Federal Register Liaison Officer.

[FR Doc. 2016-08149 Filed 4-5-16; 4:15 pm]

BILLING CODE 6820-FN-P